DEPARTMENT OF HOMELAND SECURITY

Coast Guard

[USCG-2006-24052]

Propeller Strike Injury Avoidance Workshop

AGENCY: Coast Guard, DHS.

ACTION: Notice of meeting.

SUMMARY: The U.S. Coast Guard Office of Boating Safety, at the recommendation of the National Boating Safety Advisory Council (NBSAC) is convening a Propeller Strike Injury Avoidance Workshop to address propeller strike avoidance issues. The workshop will be open to the public.

DATES: The workshop will be held on Tuesday, March 21, 2006, from 8:30 a.m. to 5 p.m. and Wednesday, March 22, 2006, from 8 a.m. to 2:30 p.m. The workshop may close early if all business is finished.

ADDRESSES: The workshop will be held at the Crowne Plaza Hotel, 1480 Crystal Drive, Arlington, VA. This notice is available on the Internet at http://dms.dot.gov and at http://uscgboating.org.

FOR FURTHER INFORMATION CONTACT: Daniel McCormick, Project Manager, Office of Boating Safety, U.S. Coast Guard telephone 202-267-6894, fax 202-267-4285. If you have questions on viewing material in the docket, call Renee V. Wright, Program Manager, Docket Operations, Department of Transportation, telephone 202-493-0402.

SUPPLEMENTARY INFORMATION: The Commandant of the U.S. Coast Guard is responsible for carrying out the National Recreational Boating Safety Program. Recreational boaters, swimmers, and divers are at risk from recreational boats as a result of incidents causing impact with propellers, lower units and appendages. The Coast Guard is engaged with industry, other government organizations, and the public to raise the level of public awareness regarding this safety risk, encourage technological advancement to lower the level of risk, and consider possible appropriate regulatory action. Although significant progress has been made, the Coast Guard intends to continue its efforts to foster active efforts to eliminate propeller related injury as a significant risk to the public.

The workshop will include a panel discussion of educational, technological, and any other issues relevant to the mitigation/elimination of propeller injury hazards. Panel members have been selected based on the unique perspective and benefit their input would add to the discussions. We plan to prepare minutes of the discussions and distribute them to everyone who registers attendance at the meeting by signing the attendance list. You may also obtain a copy of the minutes from the persons listed under FOR FURTHER INFORMATION CONTACT.

Agenda of the Workshop

The agenda includes the following:

(1) Introduction of the panel members and others in attendance.

(2) Discussion of prepared issues and questions based on early input from the Coast Guard Office of Boating Safety.

(3) Discussion of issues and questions raised by members of the panel and other workshop attendees.

(4) Conclusion.

Procedural

The workshop is open to the public. Please note that the workshop may close early if all business is finished.

Information on Services for Individuals With Disabilities

For information on facilities or services for individuals with disabilities or to request special assistance at the meeting, contact the persons listed under FOR FURTHER INFORMATION CONTACT as soon as possible.

Dated: March 2, 2006.
C.E. Bone,
RDML, U.S. Coast Guard, Director of Inspections and Compliance.

[FR Doc. E6-3217 Filed 3-7-06; 8:45 am]

BILLING CODE 4910-15-P